DEPARTMENT OF JUSTICE

Antitrust Division

Proposed Termination of Final Decrees

Notice is hereby given that True Temper Sports, Inc. (“True Temper”), successor in interest to defendant True Temper Corporation, has filed a motion to terminate the Final Judgment entered in United States v. True Temper Corporation, Civil No. 58-C-I 158, 1959 Trade Cas. (CCI-1) & 69,441 (ND. Ill. 1959), on August 20, 1959 (“1959 Final Judgment”) and the Final Judgment entered in United States v. True Temper Corporation, et al., Civil No. 5 8-C 1159, 1961 Trade Cas. (CCH) & 70,090 (N.D. Ill. 1961), on August 1, 1961 (“1961 Final Judgment”). Notice is also hereby given that the Antitrust Division of the United States Department of Justice (“the Department”), in a stipulation also filed with the Court, tentatively has consented to termination of the 1959 Final Judgment and the 1961 Final Judgment, but has reserved the right to withdraw its consent pending receipt of public comments.

On June 30, 1958 the United States filed a complaint against sole defendant True Temper alleging that True Temper and several co-conspirators conspired to restrain and monopolize the manufacture and sale of steel golf club shafts. Prior to trial True Temper settled the charges by accepting entry of the 1959 Final Judgment on August 20, 1959.

Also on June 30, 1958 the United States filed a complaint against True Temper and four golf club manufacturers alleging that they conspired to restrain and monopolize markets for golfclubs and steel shafts. Prior to trial the defendants settled the charges by accepting entry of the 1961 Final Judgment on August 1, 1961.

The Department has filed with the Court a memorandum setting forth the reasons why the United States believes that the termination of the 1959 Final Judgment and the 1961 Final Judgment would serve the public interest. Copies of the motion to terminate, the stipulation containing the United States' tentative consent, the United States' memorandum, and all further papers filed with the Court in connection with the motion to terminate will be available for inspection at the Antitrust Documents Group, Antitrust Division, Suite 1010, 450 Fifth Street, NW., Washington, DC 20530, on the Web site at http://www.usdoj.gov/atr, and at the Office of the Clerk of the United States District Court for the Northern District of Illinois, Eastern Division. Copies of these materials may be obtained from the Antitrust Division upon request and payment of the copying fee set by Department of Justice regulations.

Interested persons may submit comments regarding the proposed termination of the 1959 Final Judgment and the 1961 Final Judgment to the United States. Such comments must be received by the Antitrust Division within sixty (60) days and will be filed with the Court by the United States. Comments should be addressed to Marvin N. Price, Chief, Chicago Field Office, Antitrust Division, U.S. Department of Justice, 209 South LaSalle Street, Chicago, Illinois, 312/353-7530.

Patricia A. Brink,
Deputy Director of Operations, Antitrust Division.

[FR Doc. E8-10416 Filed 5-12-08; 8:45 am]

BILLING CODE 4410-11-M